DEPARTMENT OF TRANSPORTATION

Federal Aviation Administration

Advanced Aviation Advisory Committee (AAAC); Notice of Public Meetings; Cancellation

AGENCY: Federal Aviation Administration, Department of Transportation.

ACTION: Cancellation notice of Advanced Aviation Advisory Committee (AAAC) meetings.

SUMMARY: The Federal Aviation Administration published a notice in the Federal Register concerning a public meeting of the Advanced Aviation Advisory Committee (AAAC). The public meetings scheduled for June 11, 2024, and October 9, 2024, have been cancelled and will not be rescheduled. The notice is in the Federal Register on Friday May 24, 2024, in FR Document Number 2024-11440 on pages 45933-45934 (2 pages).

FOR FURTHER INFORMATION CONTACT: Gary Kolb, Advanced Aviation Advisory Committee Manager, Federal Aviation Administration, U.S. Department of Transportation, at gary.kolb@faa.gov or 202-267-4441.

Issued in Washington, DC.
Sherita L. Jones,
Acting Chief of Staff, UAS Integration Office, Federal Aviation Administration.

[FR Doc. 2024-11872 Filed 5-29-24; 8:45 am]

BILLING CODE 4910-13-P